DEPARTMENT OF TRANSPORTATION

Federal Aviation Administration

14 CFR Part 39

[Docket No. FAA-2004-19451; Directorate Identifier 2002-NM-138-AD; Amendment 39-13983; AD 2005-04-11]

RIN 2120-AA64

Airworthiness Directives; Airbus Model A300 B2 and B4 Series Airplanes; A300 B4-600, B4-600R and F4-600R Series Airplanes, and Model C4-605R Variant F Airplanes (Collectively Called A300-600); and A310 Series Airplanes

AGENCY: Federal Aviation Administration (FAA), Department of Transportation (DOT).

ACTION: Final rule.

SUMMARY: The FAA is superseding an existing airworthiness directive (AD), which applies to all Airbus Model A300 B2 and B4, A300-600, and A310 series airplanes. That AD currently requires identification of the part number and serial number of the parking brake operated valve (PBOV); and, if necessary, inspections of the PBOV, including a functional check of the PBOV, and follow-on and corrective actions. That AD also provides for optional terminating action for the requirements of that AD. This new AD requires modification of all affected PBOVs, or replacement with new, non-affected PBOVs, which would terminate the requirements of the existing AD. This AD is prompted by a decision by the FAA and a civil airworthiness authority to require modification or replacement of all affected PBOVs. We are issuing this AD to prevent loss of the yellow hydraulic system, which provides all the hydraulics for certain spoilers; elements of the hydraulics for flaps, stabilizer, pitch and yaw feel systems, pitch and yaw autopilot, and yaw damper; and elevator, rudder, and aileron.

DATES: This AD becomes effective April 5, 2005.

The incorporation by reference of Airbus Service Bulletin A310-32A2124, including Appendix 01, dated September 10, 2001, as listed in the AD, is approved by the Director of the Federal Register as of April 5, 2005.

On May 8, 2002 (67 FR 19655, April 23, 2002), the Director of the Federal Register approved the incorporation by reference of Airbus Service Bulletin A300-32A0441, including Appendix 01, dated September 10, 2001; and Airbus Service Bulletin A300-32A6087, including Appendix 01, dated September 10, 2001.

ADDRESSES: For service information identified in this AD, contact Airbus, 1 Rond Point Maurice Bellonte, 31707 Blagnac Cedex, France. You can examine this information at the National Archives and Records Administration (NARA). For information on the availability of this material at NARA, call (202) 741-6030, or go to: http://www.archives.gov/federal_register/code_of_federal_regulations/ibr_locations.html.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2004-19451; the directorate identifier for this docket is 2002-NM-138-AD.

FOR FURTHER INFORMATION CONTACT: Tim Backman, Aerospace Engineer, International Branch, ANM-116, FAA, Transport Airplane Directorate, 1601 Lind Avenue, SW., Renton, Washington 98055-4056; telephone (425) 227-2125; fax (425) 227-2797.

SUPPLEMENTARY INFORMATION: The FAA proposed to amend part 39 of the Federal Aviation Regulations (14 CFR Part 39) with an AD to supersede AD 2002-08-14, amendment 39-12722 (67 FR 19655, April 23, 2002). The existing AD applies to all Airbus Model A300 B2 and B4; A300 B4-600, B4-600R, and F4-600R (collectively called A300-600); and A310 series airplanes. The proposed AD was published in the Federal Register on October 27, 2004 (69 FR 62627), to retain certain requirements of the existing AD. The action also proposed to require modification of all affected parking brake operated valves (PBOVs), or replacement with new, non-affected PBOVs, which would terminate the requirements of the existing AD.

Comments

We provided the public the opportunity to participate in the development of this AD. We have considered the comments that have been submitted on the proposed AD.

Request To Withdraw the Proposed AD

One commenter, on behalf of its member operators, has no technical objection to the proposed AD, but requests withdrawing the proposed AD because the service information specified in Table 1 of the proposed AD meets the intent of the proposed AD.

We do not agree with the commenter's request to withdraw the proposed AD. There is no legal requirement for an operator to incorporate a service bulletin without an AD. Therefore, it is necessary to issue this AD to mandate that certain actions be done to correct the identified unsafe condition.

Conclusion

We have carefully reviewed the available data, including the comment that has been submitted, and determined that air safety and the public interest require adopting the AD as proposed, except as discussed under “Changes to Applicability.”

Changes to Applicability

In the proposed AD, we inadvertently did not include Model A300 C4-605R Variant F airplanes. We are including that airplane model in this AD. No airplanes of that model are currently on the U.S. Register and thus providing notice and opportunity for public comment is unnecessary before this AD is issued. We have determined that this change will neither increase the economic burden on any operator nor increase the scope of the AD.

Costs of Compliance

The following table provides the estimated costs for U.S. operators to comply with this AD. This AD will affect about 168 airplanes of U.S. registry.

Estimated Costs
Action | Work hours | Average labor rate per hour | Parts | Cost per airplane
Inspection of PBOV part number/serial number (required by AD 2002-08-14) | 2 | $65 | None | $130
Modification/replacement (new proposed action) | 4 | 65 | No Charge | 260

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-12722 (67 FR 19655, April 23, 2002), and by adding the following new airworthiness directive (AD):

2005-04-11 Airbus: Amendment 39-13983. Docket No. FAA-2004-19451; Directorate Identifier 2002-NM-138-AD.

Effective Date

(a) This airworthiness directive (AD) becomes effective April 5, 2005.

Affected ADs

(b) This AD supersedes AD 2002-08-14, amendment 39-12722 (67 FR 19655, April 23, 2002).

Applicability

(c) This AD applies to all Airbus Model A300 B2 and B4 series airplanes; A300 B4-600, B4-600R, and F4-600R series airplanes, and Model C4-605R Variant F airplanes (collectively called A300-600); and A310 series airplanes; certificated in any category.

Unsafe Condition

(d) This AD was prompted by a decision by the FAA and a civil airworthiness authority to require modification or replacement of all affected parking brake operated valves (PBOV). We are issuing this AD to prevent loss of the yellow hydraulic system, which provides all the hydraulics for certain spoilers; elements of the hydraulics for flaps, stabilizer, pitch and yaw feel systems, pitch and yaw autopilot, and yaw damper; and elevator, rudder, and aileron.

Compliance

(e) You are responsible for having the actions required by this AD performed within the compliance times specified, unless the actions have already been done.

Restatement of Certain Requirements of AD 2002-08-14

Inspection and Functional Check

(f) Within 7 days after May 8, 2002 (the effective date of AD 2002-08-14, amendment 39-12722), identify the part and serial number of the PBOV to determine whether the PBOV is an affected part, as identified by Airbus Service Bulletin A300-32A0441 (for Model A300 B2 and B4 series airplanes), A300-32A6087 (for Model A300-600 series airplanes), or A310-32A2124 (for Model A310 series airplanes); all dated September 10, 2001; as applicable.

(1) If the PBOV is NOT an affected part, no further action is required by this AD.

(2) If the PBOV is an affected part: Except as required by paragraph (g) of this AD, prior to further flight, test the PBOV in accordance with the applicable service bulletin; and thereafter perform follow-on and corrective actions (including repetitive tests and repair of the PBOV or replacement with a serviceable PBOV) at the time specified by and in accordance with the service bulletin, as applicable.

(g) If the applicable service bulletin identified in paragraph (f) of this AD specifies to contact “SEE32” for corrective action: Prior to further flight, perform the corrective action in accordance with a method approved by either the Manager, International Branch, ANM-116, FAA, Transport Airplane Directorate, or the Direction Générale de l'Aviation Civile (DGAC) (or its delegated agent).

Parts Installation

(h) As of May 8, 2002 (the effective date of AD 2002-08-14) no person may install an affected PBOV on any airplane, unless that PBOV is in compliance with all applicable requirements of this AD. Affected PBOVs are identified by Airbus Service Bulletin A300-32A0441 (for Model A300 B2 and B4 series airplanes), A300-32A6087 (for Model A300-600 series airplanes); or A310-32A2124 (for Model A310 series airplanes), all dated September 10, 2001; as applicable.

New Requirements of This AD

PBOV Modification/Replacement

(i) Within 7 months after the effective date of this AD: Modify all affected PBOVs, or replace them with new PBOVs, in accordance with Airbus Service Bulletin A300-32A0441 (for Model A300 B2 and B4 series airplanes), A300-32A6087 (for Model A300-600 series airplanes), or A310-32A2124 (for Model A310 series airplanes); all dated September 10, 2001; as applicable. The modification or replacement of all affected PBOVs terminates the requirements of this AD.

Alternative Methods of Compliance (AMOCs)

(j) The Manager, International Branch, ANM-116, Transport Airplane Directorate, FAA, has the authority to approve AMOCs for this AD, if requested in accordance with the procedures found in 14 CFR 39.19.

Related Information

(k) French airworthiness directive 2001-510(B) R1, dated May 15, 2002, also addresses the subject of this AD.

Material Incorporated by Reference

(l) You must use the service information that is specified in Table 1 of this AD to perform the actions that are required by this AD, unless the AD specifies otherwise.

(1) The Director of the Federal Register approves the incorporation by reference Airbus Service Bulletin A310-32A2124, including Appendix 01, dated September 10, 2001, in accordance with 5 U.S.C. 552(a) and 1 CFR part 51.

(2) The Director of the Federal Register previously approved the incorporation by reference of Airbus Service Bulletin A300-32A0441, including Appendix 01, dated September 10, 2001; and Airbus Service Bulletin A300-32A6087, including Appendix 01, dated September 10, 2001; as of May 8, 2002 (67 FR 19655, April 23, 2002).

(3) For copies of the service information, contact Airbus, 1 Rond Point Maurice Bellonte, 31707 Blagnac Cedex, France. For information on the availability of this material at the National Archives and Records Administration (NARA), call (202) 741-6030, or go to http://www.archives.gov/federal_register/code_of_federal_regulations/ibr_locations.html. You may view the AD docket at the Docket Management Facility, U.S. Department of Transportation, 400 Seventh Street SW., room PL-401, Nassif Building, Washington, DC.

Table 1.—Material Incorporated by Reference
Airbus service bulletin | Revision level | Date
Service Bulletin A300-32A0441, including Appendix 01 | Original | September 10, 2001.
Service Bulletin A300-32A6087, including Appendix 01 | Original | September 10, 2001.
Service Bulletin A310-32A2124, including Appendix 01 | Original | September 10, 2001.

Issued in Renton, Washington, on February 9, 2005.
Kalene C. Yanamura,
Acting Manager, Transport Airplane Directorate, Aircraft Certification Service.

[FR Doc. 05-3279 Filed 2-28-05; 8:45 am]

BILLING CODE 4910-13-P